DEPARTMENT OF AGRICULTURE

Natural Resources Conservation Service

Hatch Valley Arroyos Site 6 (Garfield Dam), Doña Ana County, NM

AGENCY: Natural Resources Conservation Service.

ACTION: Notice of a finding of no significant impact.

SUMMARY: Pursuant to section 102(2)(c) of the National Environmental Policy Act of 1969; the Council on Environmental Quality Regulations (40 CFR part 1500); and the Natural Resources Conservation Service Rules (7 CFR part 650); the Natural Resources Conservation Service, U.S. Department of Agriculture, gives notice that an environmental impact statement is not being prepared for the rehabilitation of Hatch Valley Arroyos Site 6 (Garfield Dam) in Doña Ana County, New Mexico.

FOR FURTHER INFORMATION CONTACT: Rosendo Treviño III; State Conservationist; Natural Resources Conservation Service; 6200 Jefferson, NE; Albuquerque, NM 87109-3734; telephone (505) 761-4400.

SUPPLEMENTARY INFORMATION: The environmental assessment (EA) of this federally assisted action indicates that the project will not cause significant local, regional, or national effects on the human environment. As a result of these findings, Rosendo Treviño III, State Conservationist, has determined that the preparation and review of an environmental impact statement are not needed for this project.

The project purpose is flood damage reduction. The action includes the rehabilitation of a floodwater retarding dam. The Notice of a Finding of No Significant Impact (FNSI) has been forwarded to the Environmental Protection Agency; various Federal, State, and local agencies; and interested parties. A limited number of copies of the FNSI are available to fill single copy requests at the above address. Basic data developed during the EA are on file and may be reviewed by contacting Rosendo Treviño III. No administrative action on implementation of the proposed action will be taken until 30 days after the date of this publication in the Federal Register.

Rosendo Treviño III,
State Conservationist.

[FR Doc. 05-13112 Filed 7-1-05; 8:45 am]

BILLING CODE 3410-16-P